DEPARTMENT OF COMMERCE

International Trade Administration

Notice of Assignment and the Reaffirmation of Authority to Make Initial Denials Under the Freedom of Information Act

AGENCY: International Trade Administration, Commerce.

ACTION: Notice of assignment and the reaffirmation of authority to make initial denials under the Freedom of Information Act (FOIA).

SUMMARY: This assigns or reaffirms the authority of Department of Commerce, International Trade Administration officials listed in the attachment to make initial decisions with respect to public requests for ITA records under the Freedom of Information Act (FOIA).

FOR FURTHER INFORMATION CONTACT: Peter Han, Department of Commerce, International Trade Administration, Office of Organization and Management Support, 14th & Constitution Ave., NW., Room 4001, Washington, DC 20230.

SUPPLEMENTARY INFORMATION: The officials listed in the October 19, 2000 memorandum from Timothy J. Hauser, Deputy Under Secretary for International Trade, will be responsible for making initial decisions for records in accordance with FOIA.

Dated: October 20, 2000.
Peter Han,
ITA Freedom of Information Officer, Office of Organization and Management Support.

BILLING CODE 3510-25-P

[FR Doc. 00-27670 Filed 10-26-00; 8:45 am]

BILLING CODE 3510-25-C